FEDERAL COMMUNICATIONS COMMISSION

47 CFR Part 73

[MB Docket Nos. 06-121, 02-277, 04-228, MM Docket Nos. 01-235, 01-317, 00-244, 99-360; FCC 07-216]

2006 Quadrennial Regulatory Review—Review of the Commission's Broadcast Ownership Rules and Other Rules Adopted Pursuant to Section 202 of the Telecommunications Act of 1996

AGENCY: Federal Communications Commission.

ACTION: Final rule; announcement of effective date.

SUMMARY: This document announces the effective date of the rule change to section 73.3555(d) of the Commission's rules, which was published in the Federal Register on February 21, 2008. The rule relates to the cross-ownership of broadcast stations and newspapers within a designated market area.

DATES: The final rule published on February 21, 2008 (73 FR 9481), modifying 47 CFR 73.3555(d), is effective July 9, 2008.

FOR FURTHER INFORMATION CONTACT: For additional information on this proceeding, contact Mania Baghdadi, Mania.Baghdadi@fcc.gov, 202-418-2330, of the Media Bureau, Industry Analysis Division.

SUPPLEMENTARY INFORMATION: In a Report and Order and Order on Reconsideration released on February 4, 2008, FCC 07-216, and published in the Federal Register on February 21, 2008, 73 FR 9481, the Federal Communications Commission adopted a new rule which contains information collection requirements subject to the Paperwork Reduction Act. The Report and Order and Order on Reconsideration stated that the rule change requiring OMB approval would become effective immediately upon announcement in the Federal Register of OMB approval. On June 23, 2008, the Office of Management and Budget (OMB) approved the information collection requirements contained in 47 CFR 73.3555(d). These information collections are assigned OMB Control Nos. 3060-0031 and 3060-0110. This publication satisfies the statement that the Commission would publish a document announcing the effective date of the rule change requiring OMB approval.

Under 5 CFR part 1320, an agency may not conduct or sponsor a collection of information unless it displays a current, valid OMB Control Number. No person shall be subject to any penalty for failing to comply with a collection of information subject to the Paperwork Reduction Act that does not display a valid OMB Control Number. The foregoing notice is required by the Paperwork Reduction Act of 1995, Public Law 104-13, October 1, 1995, 44 U.S.C. 3507. Broadcast licensees are reminded that, as enumerated in paragraph 78 of the Report and Order and Order on Reconsideration, licensees with a pending waiver request that involves an existing station combination consisting of more than one newspaper and/or more than one broadcast station will have 90 days after the changes to 47 CFR 73.3555(d) become effective to either amend their renewal or waiver requests or file a request for a permanent waiver. Entities that have been granted a temporary waiver of the newspaper/broadcast cross-ownership rule pending the completion of this rulemaking will have 90 days after the changes to 47 CFR 73.3555(d) become effective to either amend their renewal or waiver requests or file a request for a permanent waiver. See 73 FR at 9483, 9487.

Federal Communications Commission.
William F. Caton,
Deputy Secretary.

[FR Doc. E8-15594 Filed 7-8-08; 8:45 am]

BILLING CODE 6712-01-P